DEPARTMENT OF COMMERCE

International Trade Administration

[A-533-840]

Certain Frozen Warmwater Shrimp From India: Final Results of Antidumping Duty Administrative Review; 2021-2022

AGENCY: Enforcement and Compliance, International Trade Administration, Department of Commerce.

SUMMARY: The U.S. Department of Commerce (Commerce) determines that producers and/or exporters of certain frozen warmwater shrimp (shrimp) from India made sales at less than normal value during the period of review (POR) February 1, 2021, through January 31, 2022.

DATES: Applicable September 1, 2023.

FOR FURTHER INFORMATION CONTACT: Terre Keaton Stefanova or Adam Simons, AD/CVD Operations, Office II, Enforcement and Compliance, International Trade Administration, U.S. Department of Commerce, 1401 Constitution Avenue NW, Washington, DC 20230; telephone: (202) 482-1280 or (202) 482-6172, respectively.

SUPPLEMENTARY INFORMATION:

Background

This review covers 187 producers and/or exporters of the subject merchandise. Commerce selected two mandatory respondents for individual examination: Megaa Moda Pvt Ltd. (Megaa Moda) and NK Marine Exports LLP (NK Marine).¹ The producers/exporters not selected for individual examination are listed in Appendix II.

¹ See Memorandum, “Selection of Additional Respondents for Individual Review,” dated July 21, 2022.

On March 3, 2023, Commerce published the Preliminary Results and invited interested parties to comment.² For a complete description of the events that occurred since the Preliminary Results, see the Issues and Decision Memorandum.³

² See Certain Frozen Warmwater Shrimp from India: Preliminary Results of Antidumping Duty Administrative Review; 2021-2022, 88 FR 13430 (March 3, 2023) (Preliminary Results), and accompanying Preliminary Decision Memorandum (PDM).

³ See Memorandum, “Issues and Decision Memorandum for the Final Results of the 2021-2022 Administrative Review of the Antidumping Duty Order on Certain Frozen Warmwater Shrimp from India,” dated concurrently with, and hereby adopted by, this notice (Issues and Decision Memorandum).

Scope of the Order ⁴

⁴ See Notice of Amended Final Determination of Sales at Less Than Fair Value and Antidumping Duty Order: Certain Frozen Warmwater Shrimp from India, 70 FR 5147 (February 1, 2005) (Order).

The merchandise subject to the Order is certain frozen warmwater shrimp. The product is currently classified under the following Harmonized Tariff Schedule of the United States (HTSUS) item numbers: 0306.17.00.04, 0306.17.00.05, 0306.17.00.07, 0306.17.00.08, 0306.17.00.09, 0306.17.00.10, 0306.17.00.11, 0306.17.00.13, 0306.17.00.14, 0306.17.00.16, 0306.17.00.17, 0306.17.00.19, 0306.17.00.20, 0306.17.00.22, 0306.17.00.23, 0306.17.00.25, 0306.17.00.26, 0306.17.00.28, 0306.17.00.29, 0306.17.00.41, 0306.17.00.42, 1605.21.10.30, and 1605.29.10.10. Although the HTSUS numbers are provided for convenience and for customs purposes, the written product description remains dispositive.⁵

⁵ For a complete description of the scope of the Order, see the Preliminary Results PDM.

Analysis of Comments Received

All issues raised in the case and rebuttal briefs are listed in Appendix I to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on the comments received from interested parties, we made no changes to the margin calculations in the Preliminary Results for Megaa Moda and NK Marine. However, we did make changes to our calculation of the review-specific average rate assigned to the companies not selected for individual review.⁶

⁶ For further discussion, see Issues and Decision Memorandum at Comment 5.

Final Results of the Review

As a result of this review, we determine the following weighted-average dumping margins for the period February 1, 2021, through January 31, 2022:

⁷ See Appendix II for a full list of these companies.

Exporter/producer | Weighted- average dumping margin (percent)
Megaa Moda Pvt Ltd | 7.92
NK Marine Exports LLP | 1.43
Companies Not Selected for Individual Review ⁷ | 3.88

Review-Specific Rate for Companies Not Selected for Individual Review

The exporters or producers not selected for individual review are listed in Appendix II.

Assessment Rates

Pursuant to section 751(a)(2)(C) of the Tariff Act of 1930, as amended, and 19 CFR 351.212(b)(1), Commerce has determined, and U.S. Customs and Border Protection (CBP) shall assess, antidumping duties on all appropriate entries of subject merchandise in accordance with the final results of this review.

Pursuant to 19 CFR 351.212(b)(1), because Megaa Moda and NK Marine reported the entered value for their U.S. sales, we calculated importer-specific ad valorem duty assessment rates based on the ratio of the total amount of antidumping duties calculated for the examined sales to the total entered value of the sales for which entered value was reported. Where either the respondent's weighted-average dumping margin is zero or de minimis within the meaning of 19 CFR 351.106(c)(1), or an importer-specific rate is zero or de minimis, we will instruct CBP to liquidate the appropriate entries without regard to antidumping duties.

Commerce's “automatic assessment” practice will apply to entries of subject merchandise during the POR produced by Megaa Moda or NK Marine for which the reviewed companies did not know that the merchandise they sold to the intermediary (e.g., a reseller, trading company, or exporter) was destined for the United States. In such instances, we will instruct CBP to liquidate unreviewed entries at the all-others rate if there is no rate for the intermediate company(ies) involved in the transaction.⁸

⁸ For a full discussion of this practice, see Antidumping and Countervailing Duty Proceedings: Assessment of Antidumping Duties, 68 FR 23954 (May 6, 2003).

For the companies that were not selected for individual review, we assigned an assessment rate based on the review-specific average rate, calculated as noted in the “Final Results of the Review” section, above. The final results of this review shall be the basis for the assessment of antidumping duties on entries of merchandise covered by the final results of this review and for future deposits of estimated duties, where applicable.⁹

⁹ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) the cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recent period; (3) if the exporter is not a firm covered in this review, a previous review, or the less-than-fair-value (LTFV) investigation, but the manufacturer is, the cash deposit rate will be the rate established for the most recent period for the manufacturer of the merchandise; and (4) the cash deposit rate for all-other manufacturers or exporters will continue to be 10.17 percent, the all-others rate established in the LTFV investigation.¹⁰ These deposit requirements, when imposed, shall remain in effect until further notice.

¹⁰ See Notice of Amended Final Determination of Sales at Less Than Fair Value and Antidumping Duty Order, 70 FR 5147, 5148 (February 1, 2005).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: August 25, 2023.
Abdelali Elouaradia,
Deputy Assistant Secretary for Enforcement and Compliance.

Appendix I—List of Topics Discussed in the Issues and Decision Memorandum

I. Summary

II. Background

III. Discussion of the Issues

Comment 1: Calculating the Review-Specific Average Rate for Companies Not Selected for Review

Comment 2: Calculating Comparison Market Net Price for NK Marine

Comment 3: Excluding Certain Sales from the Home Market for Megaa Moda

Comment 4: Treating Certain Home Market Sales and Sales to the United States for Megaa Moda

Comment 5: Offsetting Interest Expenses with Short-Term Interest Income for Megaa Moda

IV. Recommendation

Appendix II—Review-Specific Average Rate Applicable to Companies Not Selected for Individual Review

1. Abad Fisheries

2. Accelerated Freeze Drying Co.

3. ADF Foods Ltd.

4. Albys Agro Private Limited

5. Al-Hassan Overseas Private Limited

6. Allana Frozen Foods Pvt. Ltd.

7. Allanasons Ltd.

8. Alps Ice & Cold Storage Private Limited

9. Amaravathi Aqua Exports Private Limited

10. Amarsagar Seafoods Private Limited

11. Amulya Seafoods

12. Anantha Seafoods Private Limited

13. Anjaneya Seafoods

14. Asvini Agro Exports

15. Ayshwarya Seafood Private Limited

16. B R Traders

17. Baby Marine Eastern Exports

18. Baby Marine Exports

19. Baby Marine International

20. Baby Marine Sarass

21. Baby Marine Ventures

22. Balasore Marine Exports Private Limited

23. BB Estates & Exports Private Limited

24. Bell Exim Private Limited

25. Bhatsons Aquatic Products

26. Bhavani Seafoods

27. Bhimraj Exports Private Limited

28. Bijaya Marine Products

29. Blue-Fin Frozen Foods Pvt. Ltd.

30. Blue Water Foods & Exports P. Ltd.

31. Blue Park Seafoods Pvt. Ltd.

32. Britto Seafood Exports Pvt Ltd.

33. Calcutta Seafoods Pvt. Ltd./Bay Seafood Pvt. Ltd./Elque & Co.

34. Canaan Marine Products

35. Capithan Exporting Co.

36. Cargomar Private Limited

37. Chakri Fisheries Private Limited

38. Chemmeens (Regd)

39. Cherukattu Industries (Marine Div)

40. Cochin Frozen Food Exports Pvt. Ltd.

41. Cofoods Processors Private Limited

42. Continental Fisheries India Private Limited

43. Coreline Exports

44. Corlim Marine Exports Pvt. Ltd.

45. CPF (India) Private Limited

46. Crystal Sea Foods Private Limited

47. Danica Aqua Exports Private Limited

48. Datla Sea Foods

49. Deepak Nexgen Foods and Feeds Private Limited

50. Delsea Exports Pvt. Ltd.

51. Devi Sea Foods Limited ¹¹

¹¹ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we initiated this administrative review with respect to Devi only for shrimp produced in India where Devi acted as either the manufacturer or exporter (but not both).

52. Dwaraka Sea Foods

53. Empire Industries Limited

54. Entel Food Products Private Limited

55. Esmario Export Enterprises

56. Everblue Sea Foods Private Limited

57. Febin Marine Foods Private Limited

58. Fedora Sea Foods Private Limited

59. Food Products Pvt., Ltd./Parayil Food Products Pvt., Ltd.

60. Fouress Food Products Private Limited

61. Frontline Exports Pvt. Ltd.

62. G A Randerian Ltd.

63. Gadre Marine Exports (AKA Gadre Marine Exports Pvt. Ltd.)

64. Galaxy Maritech Exports P. Ltd.

65. Geo Aquatic Products (P) Ltd.

66. Grandtrust Overseas (P) Ltd.

67. GVR Exports Pvt. Ltd.

68. Hari Marine Private Limited

69. Haripriya Marine Export Pvt. Ltd.

70. HIC ABF Special Foods Pvt. Ltd.

71. Highland Agro

72. Hiravati Exports Pvt. Ltd.

73. Hiravati International Pvt. Ltd.

74. Hiravati Marine Products Private Limited

75. HMG Industries Ltd.

76. HN Indigos Private Limited

77. Hyson Exports Private Limited

78. Hyson Logistics and Marine Exports Private Limited

79. Indian Aquatic Products

80. Indo Aquatics

81. Indo Fisheries

82. Indo French Shellfish Company Private Limited

83. International Freezefish Exports

84. Jinny Marine Traders

85. Jude Foods India Private Limited

86. K.V. Marine Exports

87. Karunya Marine Exports Private Limited

88. Kaushalya Aqua Marine Product Exports Pvt. Ltd.

89. Kay Kay Exports

90. Kings Infra Ventures Limited

91. Kings Marine Products

92. Koluthara Exports Ltd.

93. Libran Foods

94. Lito Marine Exports Private Limited

95. Mangala Sea Products

96. Marine Harvest India

97. Milsha Agro Exports Pvt. Ltd.

98. Milsha Sea Products

99. Minaxi Fisheries Private Limited

100. Mindhola Foods LLP

101. Minh Phu Group

102. MMC Exports Limited

103. MTR Foods

104. Naik Frozen Foods Private Limited

105. Naik Oceanic Exports Pvt. Ltd./Rafiq Naik Exports Pvt. Ltd

106. Naik Seafoods Ltd.

107. NAS Fisheries Pvt. Ltd

108. Nine Up Frozen Foods

109. Nutrient Marine Foods Limited

110. Oceanic Edibles International Limited

111. Paragon Sea Foods Pvt. Ltd.

112. Paramount Seafoods

113. Pesca Marine Products Pvt., Ltd.

114. Pijikay International Exports P Ltd.

115. Poyilakada Fisheries Private Limited

116. Pravesh Seafood Private Limited

117. Premier Exports International

118. Premier Marine Foods

119. Premier Seafoods Exim (P) Ltd.

120. Protech Organo Foods Private Limited

121. Raju Exports

122. Rajyalakshmi Marine Exports

123. Ram's Assorted Cold Storage Limited

124. Raunaq Ice & Cold Storage

125. RDR Exports

126. RF Exports Private Limited

127. Rising Tide

128. Riyarchita Agro Farming Private Limited

129. Rupsha Fish Private Limited

130. R V R Marine Products Private Limited

131. S Chanchala Combines Private Limited

132. Safera Food International

133. Sagar Samrat Seafoods

134. Sahada Exports

135. Sai Aquatechs Private Limited

136. Salet Seafoods Pvt. Ltd.

137. Samaki Exports Private Limited

138. Sanchita Marine Products Private Limited

139. Sasoondock Matsyodyog Sahakari Society Ltd.

140. Sea Doris Marine Exports

141. Seagold Overseas Pvt. Ltd.

142. Seasaga Enterprises Private Limited/Seasaga Group

143. Shimpo Exports Private Limited

144. Shimpo Seafoods Private Limited

145. Shiva Frozen Food Exp. Pvt. Ltd.

146. Shroff Processed Food & Cold Storage P Ltd.

147. Sigma Seafoods

148. Silver Seafood

149. Sita Marine Exports

150. Sonia Fisheries

151. Sreeragam Exports Private Limited

152. Sri Sakkthi Cold Storage

153. Srikanth International

154. SSF Ltd.

155. Star Agro Marine Exports Private Limited

156. Star Organic Foods Private Limited

157. Stellar Marine Foods Private Limited

158. Sterling Foods

159. Sun Agro Exim

160. Supran Exim Private Limited

161. Suvarna Rekha Exports Private Limited

162. Suvarna Rekha Marines P Ltd.

163. TBR Exports Private Limited

164. Teekay Marines Private Limited

165. Tej Aqua Feeds Private Limited

166. The Waterbase Limited

167. Torry Harris Seafoods Ltd.

168. Triveni Fisheries P Ltd.

169. U & Company Marine Exports

170. Ulka Sea Foods Private Limited

171. Uniloids Biosciences Private Limited

172. Uniroyal Marine Exports Ltd.

173. Unitriveni Overseas Private Limited

174. Vaisakhi Bio-Marine Private Limited

175. Varma Marine

176. Vasai Frozen Food Co.

177. Veronica Marine Exports Private Limited

178. Victoria Marine & Agro Exports Ltd.

179. Vinner Marine

180. Vitality Aquaculture Pvt. Ltd.

181. VKM Foods Private Limited

182. VRC Marine Foods LLP

183. West Coast Fine Foods (India) Private Limited

184. West Coast Frozen Foods Private Limited

185. Zeal Aqua Limited

[FR Doc. 2023-18915 Filed 8-31-23; 8:45 am]

BILLING CODE 3510-DS-P